DEPARTMENT OF ENERGY

Federal Energy Regulatory Commission

Notice of Transfer of License, Substitution of Relicense Applicant, and Soliciting Comments, Motions To Intervene, and Protests

April 15, 2002.

Take notice that the following application has been filed with the Commission and is available for public inspection:

a. Application Types: (1) Transfer of License and (2) Request for Substitution of Applicant for New License.

b. Project Nos: 7000-016 and 7000-015.

c. Date Filed: April 8, 2002.

d. Applicants: Newton Falls Holdings, LLC (transferor) and Erie Boulevard Hydropower, L.C. (transferee).

e. Project Name and Location: The Newton Falls Project is on the East Branch of the Oswegatchie River near the Village of Newton Falls in St. Lawrence County, New York. The project does not occupy federal or tribal lands.

f. Filed Pursuant to: Federal Power Act, 16 U.S.C. 791(a)-825(r).

g. Applicant Contacts: For Transferor: Harold G. Slone, Manager, Newton Falls Holdings, LLC, 1930 West Wesley Road, NW, Atlanta, GA 30327, (770) 638-1172. For Transferee: William J. Madden, Jr., Winston & Strawn, 1400 L Street, NW., Washington, DC 20005-3502, (202) 371-5700.

h. FERC Contact: James Hunter, (202) 219-2839.

i. Deadline for filing motions to intervene, protests, and comments: June 15, 2002.

All documents (original and eight copies) should be filed with: Magalie Roman Salas, Secretary, Federal Energy Regulatory Commission, 888 First Street, NE., Washington, DC 20426. Comments, protests, and interventions may be filed electronically via the internet in lieu of paper. See 18 CFR 385.2001(a)(1)(iii) and the instructions on the Commission's Web site under the “e-Filing” link.

Please include the noted project numbers on any comments or motions filed.

j. Description of Proposal: The Applicants request approval of the transfer of the license for Project No. 7000 from the transferor to the transferee, in connection with the proposed sale of the project.

The transfer application was filed within five years of the expiration of the license for Project No. 7000, which is the subject of a pending relicense application. In Hydroelectric Relicensing Regulations Under the Federal Power Act (54 FR 23,756; FERC Stats. and Regs., Regs. Preambles 1986-1990 30,854 at p. 31,437), the Commission declined to forbid all license transfers during the last five years of an existing license, and instead indicated that it would scrutinize all such transfer requests to determine if the primary purpose of the transfer was to give the transferee an advantage in relicensing (id. at p. 31,438 n. 318).

The transfer application also contains a separate request for approval of the substitution of the transferee for the transferor as the applicant in the pending relicensing application, filed by the transferor on January 30, 2002, in Project No. 7000-015.

k. Copies of this filing are on file with the Commission and are available for public inspection. This filing may also be viewed on the Web at http://www.ferc.gov using the “RIMS” link, select “Docket#” and follow the instructions. (Call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Magalie Roman Salas,
Secretary.

[FR Doc. 02-9708 Filed 4-22-02; 8:45 am]

BILLING CODE 6717-01-P